DEPARTMENT OF ENERGY

Federal Energy Regulatory Commission

[Docket No. CP20-136-000]

Guardian Pipeline L.L.C.; Notice of Request Under Blanket Authorization

Take notice that on April 8, 2020, Guardian Pipeline L.L.C. (Guardian), 100 West Fifth Street, ONEOK Plaza, Tulsa, Oklahoma 74103, filed in the above referenced docket, a prior notice request pursuant to sections 157.205 and 157.211 of the Commission's regulations under the Natural Gas Act and its blanket certificate issued in Docket No. CP00-36-000 for authorization to construct and operate the Graymont Western Lime Project in Fond du Lac County, Wisconsin. Guardian states the proposed project will consist of a new delivery point connecting Guardian to Graymont Western Lime, Inc., which will measure a gas volume of 5 million cubic feet (MMcf) per day with a potential for expansion up to 13.2 MMcf per day. Guardian estimates the cost of the project to be approximately $822,000, all as more fully set forth in the application which is on file with the Commission and open to public inspection.

In addition to publishing the full text of this document in the Federal Register, the Commission provides all interested persons an opportunity to view and/or print the contents of this document via the internet through the Commission's Home Page (http://ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

Any questions regarding this prior notice request should be directed to Denise Adams, Director of Regulatory Affairs, Guardian Pipeline L.L.C., 100 West Fifth Street, ONEOK Plaza, Tulsa, Oklahoma 74103, by telephone at (918) 732-1408, or by email at denise.adams@oneok.com.

Any person or the Commission's staff may, within 60 days after the issuance of the instant notice by the Commission, file pursuant to Rule 214 of the Commission's Procedural Rules (18 CFR 385.214) a motion to intervene or notice of intervention. Any person filing to intervene, or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

Persons who wish to comment only on the environmental review of this project should submit an original and two copies of their comments to the Secretary of the Commission. Environmental commenters will be placed on the Commission's environmental mailing list and will be notified of any meetings associated with the Commission's environmental review process. Environmental commenters will not be required to serve copies of filed documents on all other parties. However, the non-party commenters will not receive copies of all documents filed by other parties or issued by the Commission and will not have the right to seek court review of the Commission's final order.

The Commission strongly encourages electronic filings of comments, protests, and interventions in lieu of paper using the eFiling link at http://www.ferc.gov. Persons unable to file electronically should submit an original and 3 copies of the protest or intervention to the Federal Energy Regulatory Commission, 888 First Street NE, Washington, DC 20426.

Dated: April 17, 2020.
Kimberly D. Bose,
Secretary.

[FR Doc. 2020-08631 Filed 4-22-20; 8:45 am]

BILLING CODE 6717-01-P